COMMODITY FUTURES TRADING COMMISSION

Global Market Advisory Committee meeting

This is to give notice, pursuant to Section 10(a) of the Federal Advisory Committee Act, 5 U.S.C. App. 2, 10(a), that the Commodity Futures Trading Commission's Global Markets Advisory Committee will conduct a public meeting on Wednesday, January 12, 2005. The meeting will take place in the first floor hearing room of the Commission's Washington, DC headquarters, Three Lafayette Centre, 1155 21st Street, NW., Washington, DC 20581 from 1 to 4 p.m.

The agenda will consist of the following:

(1) Call to order.

(2) Briefing on China currency issues.

(3) Report of subcommittee on bankruptcy issues.

(4) Commodity Exchange Act reauthorization: global markets issues and legislative update.

(5) Other business.

(6) Adjourn.

The meeting is open to the public. The Chairman of the Global Markets Advisory Committee is Commissioner Walter L. Lukken. any member of the public who wishes to file a written statement with the committee should mail a copy of the statement to the attention of: Global Markets Advisory Committee, c/o Commissioner Walter L. Lukken, Commodity Futures Trading Commission, Three Lafayette Centre, 1155 21st Street, NW., Washington, DC 20581, before the meeting. Members of the public who wish to make oral statements should inform Commissioner Lukken in writing at the foregoing address at least three business days before the meeting. Reasonable provision will be made, if time permits, for oral presentations of no more than five minutes each in duration.

For further information concerning this meeting, please contact David Stanwick, a member of Commissioner Lukken's staff, at 202-418-5014.

Issued by the Commission in Washington, DC on December 22, 2004.
Jean A. Webb,
Secretary of the Commission.

[FR Doc. 04-28474 Filed 12-27-04; 8:45 am]

BILLING CODE 6351-01-M